FEDERAL MARITIME COMMISSION

Notice of Agreements Filed

The Commission hereby gives notice of the filing of the following agreement under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201346.

Agreement Name: HLAG/ONE Cooperative Working Agreement.

Parties: Hapag-Lloyd AG; Hapag-Lloyd USA, LLC; and Ocean Network Express Pte. Ltd.

Filing Party: Joshua Stein; Cozen O'Connor.

Synopsis: The Agreement authorizes the joint procurement of fuel at the ports covered by the agreement.

Proposed Effective Date: 10/6/2020.

Location: https://www2.fmc.gov/FMC.Agreements.Web/Public/AgreementHistory/33502.

Dated: August 24, 2020.
Rachel Dickon,
Secretary.

[FR Doc. 2020-18845 Filed 8-26-20; 8:45 am]

BILLING CODE 6730-02-P